ENVIRONMENTAL PROTECTION AGENCY

[OW-2004-0015, FRL-7798-1]

Agency Information Collection Activities: Proposed Collection; Comment Request; “Clean Water Act State Revolving Fund Program,” EPA ICR Number 1391.07, OMB Control Number 2040-0118

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on 11/30/04. Before submitting the ICR to OMB for review and approval, EPA is soliciting comments on specific aspects of the proposed information collection as described below.

DATES: Comments must be submitted on or before October 4, 2004.

ADDRESSES: Submit your comments, referencing docket ID number OW-2004-0015, to EPA online using EDOCKET (our preferred method), by e-mail to OW-DOCKET@EPA.gov, or by mail to: EPA Docket Center, Environmental Protection Agency, [Office of Water Docket, Mail Code-4101T, 1200 Pennsylvania Ave., NW., Washington, DC 20460.

FOR FURTHER INFORMATION CONTACT: Clifford Yee, Office of Wastewater Management, Mail Code, 4204M, Environmental Protection Agency, 1200 Pennsylvania Ave., NW., Washington, DC 20460; telephone number: 202-564-0598; fax number: 202-501-2403; e-mail address: yee.clifford@EPA.gov.

SUPPLEMENTARY INFORMATION: EPA has established a public docket for this ICR under Docket ID number OW-2004-0015, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are State and Local Government officials.

Title: Clean Water Act State Revolving Fund Program (OMB Control No. 2040-0118; EPA ICR No. 1391.06) expiring 11/30/04.

Abstract: The Clean Water Act, as amended by “The Water Quality Act of 1987” (U.S.C. 1381-1387 et seq.), created a Title VI which authorizes grants to States for the establishment of State Water Pollution Control Revolving Funds (SRFs). The information collection activities will occur primarily at the program level through the State “Intended Use Plan” and “Annual Report”. The information is needed annually to implement section 606 of the Clean Water Act (CWA).

The 1987 Act declares that water pollution control revolving funds shall be administered by an instrumentality of the State subject to the requirements of the act. This means that each State has a general responsibility for administering its revolving fund and must take on certain specific responsibilities in carrying out its administrative duties. The information collection activities will occur primarily at the program level through the State Intended Use Plan and Annual Report. The information is needed annually to implement section 606 of the Clean Water Act (CWA). The Act requires the information to ensure national accountability, adequate public comment and review, fiscal integrity and consistent management directed to achieve environmental benefits and results. The individual information collections are: (1) Capitalization Grant Application and Agreement/State Intended Use Plan, (2) Annual Report, (3) State Annual Audit, and (4) Application for SRF Financial Assistance.

(1) Capitalization Grant Application and Agreement/State Intended Use Plan: The State will prepare a Capitalization Grant application that includes an Intended Use Plan (IUP) outlining in detail how it will use all the funds available to the fund. The grant agreement contains or incorporates by reference the IUP, application materials, payment schedule, and required assurances. The bulk of the information is provided in the IUP, the legal agreement which commits the State and EPA to execute their responsibilities under the Act.

(2) Annual Report: The State must agree to complete and submit an annual Report that indicates how the State has met the goals and objectives of the previous fiscal year as stated in the IUP and grant agreement. The report provides information on loan recipients, loan amounts, loan terms, project categories, and similar data on other forms of assistance. The report describes the extent to which the existing SRF financial operating policies, alone or in combination with other State financial assistance programs, will provide for the long term fiscal health of the Fund and carry out other provisions specified in the grant operating agreement.

(3) Annual Audit: Most States have agreed to conduct or have conducted a separate financial audit of the Capitalization Grant which will provide opinions on the financial statements, and a report on the internal controls and compliance with program requirements. The remaining States will be covered by audits conducted under the requirements of the Single Audit Act and by EPA's Office of Inspector General.

(4) Application for SRF Financial Assistance: Local communities and other eligible entities have to prepare and submit applications for SRF assistance to their respective State Agency which manages the SRF program. The State reviews the completed loan applications, and verifies that the proposed projects will comply with applicable Federal and State requirements.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The information collection will involve about an estimated 2,805 respondents per year, with about 2,754 average annual responses per year. The time required for the responses will vary depending on the respondent, but the total average annual number of hours requested is estimated to be about 339,405 hours. The total average annual respondent (State and Local) cost is estimated to be about $6,830,850.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: July 29, 2004.
Jane Moore,
Deputy Director, Office of Wastewater Management.

[FR Doc. 04-17883 Filed 8-4-04; 8:45 am]

BILLING CODE 6560-50-P